DEPARTMENT OF HEALTH AND HUMAN SERVICES

Administration for Children and Families

Submission for OMB Review; Comment Request

Title: DHHS/ACF/ASPE/DOL Enhanced Services for the Hard-to-Employ Demonstration and Evaluation Project Baseline Survey.

OMB No.: New collection.

Description: The Enhanced Services for the Hard-to-Employ Demonstration and Evaluation Project (HtE) is the most ambitious, comprehensive effort to learn what works in this area to date and is explicitly designed to build on previous and ongoing research by rigorously testing a wide variety of approaches to promote employment and improve family functioning and child well-being. The HtE project will “conduct a multi-site evaluation that studies the implementation issues, program design, net impact and benefit-costs of selected programs” ¹ designed to help Temporary Assistance for Needy Families (TANF) recipients, former TANF recipients, or low-income parents who are hard-to-employ. The project is sponsored by the Office of Planning, Research and Evaluation (OPRE) of the Administration for Children and Families (ACF), the Office of the Assistant Secretary for Planning and Evaluation (ASPE) in the U.S. Department of Health and Human Services (HHS), and the U.S. Department of Labor (DOL). The evaluation involves an experimental, random assignment design in six sites, testing a diverse set of strategies to promote employment for low-income parents who face serious obstacles to employment, including physical and mental health problems, substance abuse, human capital deficiencies, and situational barriers. At least two of the sites included in the evaluation will feature “two generation” models, serving both parents and their children. Over the next several years, the HtE project will generate a wealth of rigorous data on implementation, effects, and costs of these alternative approaches. The data collected will be used for the following purposes:

¹ From the Department of Health and Human Services RFP No.: 233-01-0012.

• To study the extent to which different HtE approaches impact employment, earnings, income, welfare dependence, and the presence or persistence of employment barriers;

• To collect data on a wider range of outcome measures than is available through Welfare, Medicaid, Food Stamps, Social Security, the Criminal Justice System or Unemployment Insurance records in order to understand the family circumstances and attributes and situations that contribute to the difficulties in finding employment; job retention and job quality; educational attainment; interactions with and knowledge of the HtE program; household composition; childcare; transportation; health care; income; physical and mental health problems; substance abuse; domestic violence; and criminal history;

• To conduct non-experimental analyses to explain participation decisions and provide a descriptive picture of the circumstances of individuals who are hard-to-employ;

• To obtain participation information important to the evaluation's benefit-cost component; and,

• To obtain contact information for possible future follow-up, information that will be important to achieving high response rates for additional surveys.

Respondents: The respondents to the baseline survey are Temporary Assistance for Needy Families (TANF) recipients, former TANF recipients, or low-income individuals who are hard-to-employ from six states likely to be participating in the HtE Project: California, Georgia, Kansas, New York, Pennsylvania, and Rhode Island. Survey respondents can be grouped according to four target populations: Ex-offenders with children; low-income mothers with mental health barriers; populations connected to the TANF system; and programs working with two generations (parents and their children). Prior to random assignment, basic demographic information for all survey respondents will be obtained wherever possible from the program's automated system. In addition, all survey respondents will receive a core set of questions that will be administered by Audio-Computer Assisted Self Interview (ACASI-Core). In the site operating a program aimed specifically at ex-offenders, an additional supplementary module will be administered by Audio-CASI. Similarly, an additional supplementary module will be administered by Audio-CASI in the site operating a program aimed at survey respondents with mental health problems. Finally, in the two-generation sites (two of the six sites), survey respondents will complete a two-generation survey administered by a Computer Assisted Personal Interview (CAPI). Approximately 12,000 respondents will complete the core survey, 2,000 will complete the criminal justice module, 2,000 will complete the mental health module, and 4,000 will complete the two-generation CAPI survey.

Annual Burden Estimates
Instrument | Number of respondents | Number of responses per respondent | Average burden hours per response | Total burden hours
Audio-CASI Core | 12,000 | 1 | 10 minutes or .17 hrs | 2,000
Criminal Justice Module | 2,000 | 1 | 12 minutes or .20 hrs | 400.00
Mental Health Module | 2,000 | 1 | 11 minutes or .18 hrs | 366.67
Two-Generation CAPI | 4,000 | 1 | 24 minutes or .4 hrs | 1,600

Estimated Total Annual Burden Hours: 4,366.67.

Additionally Information: Copies of the proposed collection may be obtained by writing to the Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503. Attn: Desk Officer for ACF.

Dated: May 16, 2003.
Bob Sargis,
Reports Clearance Officer.

[FR Doc. 03-12907 Filed 5-22-03; 8:45 am]

BILLING CODE 4184-01-M